DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking approval of the following information collection activities. Before submitting these information collection requirements for clearance by the Office of Management and Budget (OMB), FRA is soliciting public comment on specific aspects of the activities identified below.

DATES: Comments must be received no later than August 18, 2008.

ADDRESSES: Submit written comments on any or all of the following proposed activities by mail to either: Mr. Robert Brogan, Office of Safety, Planning and Evaluation Division, RRS-21.1, Federal Railroad Administration, 1200 New Jersey Ave., SE., Room Number W33-497, Washington, DC 20590, or Ms. Nakia Poston, Office of Information Technology, RAD-20, Federal Railroad Administration, 1200 New Jersey Ave., SE., Room Number W34-204, Washington, DC 20590. Commenters requesting FRA to acknowledge receipt of their respective comments must include a self-addressed stamped postcard stating, “Comments on OMB control number 2130-New.” Alternatively, comments may be transmitted via facsimile to (202) 493-6216 or (202) 493-6170, or via e-mail to Mr. Brogan at robert.brogan@dot.gov, or to Ms. Poston at nakia.poston@dot.gov. Please refer to the assigned OMB control number or information collection title in any correspondence submitted. FRA will summarize comments received in response to this notice in a subsequent notice and include them in its information collection submission to OMB for approval.

FOR FURTHER INFORMATION CONTACT: Mr. Robert Brogan, Office of Planning and Evaluation Division, RRS-21.1, Federal Railroad Administration, 1200 New Jersey Ave., SE., Room Number W33-497, Washington, DC 20590 (telephone: (202) 493-6292) or Ms. Nakia Poston, Office of Information Technology, RAD-20, Federal Railroad Administration, 1200 New Jersey Ave., SE., Room Number W34-204, Washington, DC 20590 (telephone: (202) 493-6073). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to provide 60-days notice to the public for comment on information collection activities before seeking approval by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of proposed new information collection activities that FRA will submit for clearance by OMB as required under the PRA:

Title: Factors for Selection of Railroads for Evaluation of Bridge Management Practices.

OMB Control Number: 2130-New.

Abstract: Abstract: The Federal Railroad Administration (FRA) has conducted a Railroad Bridge Safety Program at various levels of effort ever since the enactment of the Railroad Safety Act of 1970. FRA is authorized under that act to issue regulations addressing a wide variety of subjects regarding railroad safety, but FRA has found that bridge safety has been well served by a non-regulatory policy.

The resulting Statement of Agency Policy on the Safety of Railroad Bridges, published in the Federal Register in 2000, is based on the findings of a survey conducted by FRA in 1992 and 1993. That survey showed that a large majority of railroads were managing their bridges in a manner which promoted the immediate safety of those bridges. FRA therefore adopted that Bridge Safety Policy, which incorporates non-regulatory guidelines. The non-regulatory guidelines of the Bridge Safety Policy are promulgated as Appendix C of the Federal Track Safety Standards, Title 49 Code of Federal Regulations, Part 213.

Since the initial bridge management survey was completed, FRA has continued to conduct evaluations of the bridge management practices of the Nation's railroads. Regular, continuing contact has been in place between FRA and the larger railroads (Class I and major passenger carriers). However, the selection of smaller railroads (Class III short lines and smaller Class II regional railroads) has been on an ad hoc basis. FRA has based decisions to evaluate individual smaller railroads on recommendations from FRA regional staff, complaints from the public, and the small number of bridge-related train accidents.

The Government Accountability Office (GAO) in 2006 and 2007 conducted a study to evaluate the safety and serviceability of our Nation's railroad bridges and tunnels. GAO reported to the Congress on that study in August 2007. That report, “RAILROAD BRIDGES AND TUNNELS—Federal Role in Providing Safety Oversight and Freight Infrastructure Investment Could Be Better Targeted” includes the following recommendation:

To enhance the effectiveness of its bridge and tunnel safety oversight function, we recommend that the Secretary of Transportation direct the Administrator of the Federal Railroad Administration to devise a systematic, consistent, risk-based methodology for selecting railroads for its bridge safety surveys to ensure that it includes railroads that are at higher risk of not following the FRA's bridge safety guidelines and of having bridge and tunnel safety issues.” FRA agrees with that recommendation, and is implementing it.

A vital part of that methodology is the development of information on which to base the factors by which railroads will be selected for surveys and evaluations. The factors developed by FRA, in conjunction with the railroads themselves, include such statistics as the length of a railroad in miles, the number, types and total length of its bridges, its level of traffic, the presence of hazardous material traffic, the operation of passenger trains, and the railroad's record of train accidents. Several of those factors, particularly regarding the railroad's bridge population, are not found in data already held or collected by FRA.

An attempt to characterize the selection factors without incorporating that data on a railroad's bridge population would seriously compromise the accuracy and usefulness of the information. FRA has, therefore, determined that the effectiveness of its bridge safety program depends on this data, and has identified two options for collecting it. In one case, FRA inspectors could visit each railroad in turn, interview the managers of the railroad, and record the information presented. In the other case, FRA could request that each railroad provide its data to FRA in a convenient format.

FRA believes that the second option, self-reporting by the railroads, is more convenient for the responding universe, and that it represents the most efficient use of agency resources. Railroad managers will be able to gather the data on their own time schedules, within reason, and FRA would not have to devote employee time and travel expenses to visit the responding railroads.

FRA will use the data received in this project to rank individual railroads for scheduling bridge program evaluations by FRA's Bridge Safety Staff. The data will be analyzed against weighting factors, and railroads will be prioritized according to the resulting scores. The weighting factors are presently being reviewed by a committee of the American Short Line and Regional Railroad Association (ASLRRA). FRA will consider the recommendation of ASLRRA in this regard, and will make the weighting factors available to the respondent universe and the public as part of this project.

It should be noted that a high selection ranking of any railroad by FRA will not necessarily indicate that the railroad has a bridge safety problem. That determination, one way or the other, will only be made by FRA during its evaluation of that railroad's bridge management practices.

Form Number(s): FRA F 6180.129.

Affected Public: Railroads.

Respondent Universe: 567 Railroads.

Frequency of Submission: On occasion.

Reporting Burden:

Form No. | Respondent universe | Total annual responses | Average time per response | Total annual burden hours | Total annual burden cost
Form FRA F 6180.129 | 567 Railroads | 475 forms | 3 hours | 1,425 | $57,000

Estimated Annual Burden: 1,425 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on June 11, 2008.
D.J. Stadtler,
Director, Office of Financial Management, Federal Railroad Administration.

[FR Doc. E8-13690 Filed 6-17-08; 8:45 am]

BILLING CODE 4910-06-P